DEPARTMENT OF DEFENSE

Department of the Army; Corps of Engineers

Intent To Prepare a Joint Supplemental Environment Impact Statement/Supplemental Environmental Impact Report for the San Luis Rey River Flood Control Project, Operations and Maintenance Plan; San Diego County, CA

AGENCY: Department of the Army; U.S. Army Corps of Engineers, DOD.

ACTION: Notice.

SUMMARY: The U.S. Army Corps of Engineers (Corps) and City of Oceanside amends the notice published in the Federal Register on June 8, 1999 (64 FR 30496), which announced the Corps' intent to prepare a Supplemental Environmental Impact Statement (EIS) for the proposed reauthorization study of the on-going flood control project on the San Luis Rey River, City of Oceanside, San Diego County, California. This amendment to the notice revises the June 8, 1999, notice to announce the Corps' intent to prepare a Supplemental Environmental Impact Statement/Environmental Impact Report (SEIS/EIR) to address changes to the operation and maintenance (O&M) plan for the on-going flood control project on the San Luis Rey River. The study area is located in the City of Oceanside, in the northwest portion of San Diego County, California. The study area is comprised of the lower 7.2 miles of the river, from the Pacific Ocean to the College Boulevard Bridge. The original Final Environmental Impact Statement (FEIS) was dated September 25, 1970.

DATES: Submit comments on or before April 4, 2008.

ADDRESSES: U.S. Army Corps of Engineers, Los Angeles District, CESPL-PD-RN, P.O. Box 532711, Los Angeles, CA 90053-2325.

FOR FURTHER INFORMATION CONTACT: Ms Tiffany Kayama; phone (213) 452-3845; or e-mail: tiffany.r.kayama@usace.army.mil.

SUPPLEMENTARY INFORMATION: Changes to the O&M plan are necessary to address Federal- and State-listed endangered species that now inhabit the project area and critical habitat that has been designated within the project area. The changes are focused on vegetation clearing and sediment removal to provide for flood control consistent with the project scope and authorization, and eliminate or reduce potential effects to listed species.

The Corps conducted a public scoping meeting on June 16, 1999, in Oceanside, California. This scoping meeting was held to solicit public input on significant environmental issues associated with the on-going flood control project. A second public scoping meeting will not be held.

Useful information requested includes other environmental studies, published and unpublished data, and alternatives that should be addressed in the analysis. Individuals and agencies may offer information relevant or data relevant to the proposed study and provide comments by mailing the information to Ms. Tiffany Kayama (see DATES and ADDRESSES). Request to be placed on the mailing list for announcements and the Draft SEIS/EIR also should be sent to Ms. Kayama (see ADDRESSES).

A fully array of alternatives to the proposed action will be developed for analyses, including the no action plan.

Alex C. Dornstauder,
Colonel, U.S. Army, District Engineer.

[FR Doc. 05-4177 Filed 3-3-05; 8:45 am]

BILLING CODE 3710-KF-M